DEPARTMENT OF TRANSPORTATION

Maritime Administration

Marine Transportation System National Advisory Council

ACTION: National Advisory Council public meeting.

SUMMARY: The Maritime Administration announces that the Marine Transportation System National Advisory Council (MTSNAC) will hold a meeting to discuss the Council's Team reports, its SEA-21 proposal, short sea shipping, shipbuilding, MTS infrastructure needs and other issues. A public comment period is scheduled for 9 a.m. to 10 a.m. on Tuesday, May 13, 2003. To provide time for as many people to speak as possible, speaking time for each individual will be limited to three minutes. Members of the public who would like to speak are asked to contact Raymond Barberesi by May 5, 2003. Commenters will be placed on the agenda in the order in which notifications are received. If time allows, additional comments will be permitted. Copies of oral comments must be submitted in writing at the meeting. Additional written comments are welcome and must be filed by May 20, 2003.

DATES: The meeting will be held on Monday, May 12, 2003, from 10 a.m. to 5:30 p.m. and Tuesday, May 13, 2003, from 8 a.m. to 12 p.m.

ADDRESSES: The meeting will be held in the Hotel Monaco, 700 F Street, NW., Washington, DC 20001. The hotel's phone number is (202) 628-7177.

FOR FURTHER INFORMATION CONTACT: Raymond Barberesi, (202) 366-4357; Maritime Administration, MAR 830, Room 7201, 400 Seventh St., SW, Washington, DC 20590; Raymond.Barberesi@marad.dot.gov.

(Authority: 5 U.S.C. App 2, Sec. 9(a)(2); 41 CFR 101-6. 1005; DOT Order 1120.3B)

Dated: April 10, 2003.
Joel C. Richard,
Secretary, Maritime Administration.

[FR Doc. 03-9289 Filed 4-15-03; 8:45 am]

BILLING CODE 4910-81-P